DEPARTMENT OF COMMERCE

Membership of the Office of the Secretary Performance Review Board

Agency: Department of Commerce.

Action: Notice of Membership on the Office of the Secretary Performance Review Board.

SUMMARY: In accordance with 5 U.S.C., 4314(c)(4), Department of Commerce (DOC) announces the appointment of persons to serve as members of the Office of the Secretary (OS) Performance Review Board (PRB). The OS PRB is responsible for reviewing performance ratings, pay adjustments and bonuses of Senior Executive Service (SES) members. The term of the new members of the OS PRB will expire December 31, 2014.

DATES: Effective Date: The effective date of service of appointees to the Office of the Secretary Performance Review Board is upon publication of this notice.

FOR FURTHER INFORMATION CONTACT: Denise A. Yaag, Director, Office of Executive Resources, Office of Human Resources Management, Office of the Director, 14th and Constitution Avenue NW., Washington, DC 20230, (202) 482-3600.

SUPPLEMENTARY INFORMATION: The names, position titles, and type of appointment of the members of the OS/PRB are set forth below by organization:

Department of Commerce

Office of the Secretary

2012-2014

Performance Review Board Membership

Office of the Secretary

Ellen Herbst, Senior Advisor for Policy & Program Integration

Office of the Chief Financial Officer and Assistant Secretary for Administration

Frederick E. Stephens, Deputy Assistant Secretary for Administration

Suzan J. Aramaki, Director, Office of Civil Rights

Narahari Sastry, Deputy Assistant Secretary for Resources Management, Office of Security

National Oceanic and Atmospheric Administration

James M. Turner, Deputy Assistant Secretary for International Affairs

National Telecommunications and Information Administration

Leonard M. Bechtel, Chief Financial Officer and Director for Administration

Office of the General Counsel

Michael A. Levitt, Assistant General Counsel for Legislation and Regulation

Barbara S. Fredericks, Assistant General Counsel for Administration (Alternate)

Dated: September 28, 2012.
Denise A. Yaag,
Director, Office of Executive Resources.

[FR Doc. 2012-24775 Filed 10-9-12; 8:45 am]

BILLING CODE 3510-BS-M